DEPARTMENT OF THE INTERIOR

National Park Service

National Register of Historic Places; Notification of Pending Nominations and Related Actions

Nominations for the following properties being considered for listing or related actions in the National Register were received by the National Park Service before August 14, 2010. Pursuant to section 60.13 of 36 CFR part 60, written comments are being accepted concerning the significance of the nominated properties under the National Register criteria for evaluation. Comments may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 23, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Arkansas County

A.M. Bohnert Rice Plantation Pump #2 Engine, SE corner of US 165 and Post Bayou Lane, Gillett, 10000783

Benton County

Kansas City Southern Railway Caboose #383, NW of the AR 72 and AR 59 intersection, Gravette, 10000782

Chicot County

Demott Commercial Historic District, 101-120 N. Freeman; 101-219 E. Iowa St. and 131 N. Main St., Dermott, 10000789

Faulkner County

Conway Commercial Historic District, Roughly bounded by Main St on the S, Harkrider St and Spencer St on the E, just S of Mill St to the N, and Locust St, Conway, 10000779

Howard County

Nashville Commercial Historic District, Bounded roughly by Shepherd St., Missouri Pacific Railroad, Hempstead St. and Second St., Nashville, 10000784

Sebastian County

Fishback Neighborhood Historic District, Roughly bounded by Rogers, Greenwood, and Dodson Aves and 31st St, Fort Smith, 10000780

Woodruff County

Augusta Electrical Generating Plant, SW corner of 5th and Spruce Sts, Augusta, 10000788

McCrory Commercial Historic District, Roughly Edmonds Ave between Railroads & Third Sts, McCrory, 10000781

CALIFORNIA

Sacramento County

PG&E Powerhouse, 400 Jibboom St, Sacramento, 10000774

Santa Clara County

Renzel, Ernest & Emily, House, 120 Arroyo Way, San Jose, 10000773

GEORGIA

Chatham County

Rourke, James and Odessa, Jr., Raised Tybee Cottage, 702 14th St, Tybee Island, 10000804

Cherokee County

Canton Historic District, Roughly centered on Main St between the Etowah River on the W and Jeanette St on the E, Canton, 10000803

Indiana

Jackson County

Vehslage, George H., House, 515 N Chestnut St, Seymour, 10000775

Lake County

Forest—Moraine Residential Historic District, Roughly bounded by Wildwood Rd., 165th St, Hohman Ave & Stateline Ave, Hammond, 10000777

Forest—Southview Residential Historic District, Roughly bounded by 165th St, Hohman Ave, Locust St, and State Line Ave, Hammond, 10000778

MASSACHUSETTS

Barnstable County

Jarvesville Historic District, Roughly bounded by Liberty, Main, Jarves, and Church Sts, and the town landing, Sanwich, 10000787

Middlesex County

Two Brothers Rocks—Dudley Road Historic District, Roughly Dudley Rd between Chestnut Lane and Emery Rd, Bedford, and Timbercreek Lane, Billerica, from SR 4 to Concord River Bedford, 10000790

Norfolk County

Ellice School, 185 Pleasant St, Millis, 10000785

Worcester County

Eagleville Historic District, Main St, Princeton St, High St, Holden, 10000786

NEW YORK

Clinton County

Miner, Alice T., Colonial Collection, 9618 State Road Route 9, Chazy, 10000799

Monroe County

Teoronto Block Historic District, Bounded by State, Brown, Factory and Mill Sts, Rochester, 10000798

Otsego County

Tunnicliff-Jordan House, 68-72 Main St, Richfield Springs, 10000796

Suffolk County

Smith, Frank W., House, 43 Barberry Ct, Amityville, 10000797

OKLAHOMA

Tulsa County

Casa Loma Hotel, (Route 66 and Associated Resources in Oklahoma AD MPS) 2626-2648 E Eleventh St, Tulsa, 10000805

OREGON

Lane County

The Big ‘O’, Skinner Butte, Eugene, 10000800

Linn County

Santiam Wagon Road, Willamette National Forest, Deschutes National Forest, Cascaia, Sisters, 10000795

Malheur County

Owyhee Dam Historic District, Owyhee Lake Rd; 11 mi SW of Adrian, Adrian, 10000791

Multnomah County

Campbell, David, Memorial, 1800 W Burnside St, Portland, 10000802

Visitors Information Center, 1020 SW Naito Parkway, Portland, 10000801

VERMONT

Washington County

North Glass Village Historic District, N Calais Rd, Foster Hill Rd, Upper Rd, Moscow Hills Rd, G.A.R. Rd, Calais, 10000772

VIRGINIA

Botetourt County

Greenfield, Botetourt Center at Greenfield, US HWY 220, Fincastle, 10000792

Dinwiddie County

Central State Hospital Chapel, West Washington Street Extended, Petersburg, 10000794

Newport News Independent city

Lee Hall Depot, 9 Elmhurst St, Newport News, 10000793

[FR Doc. 2010-22242 Filed 9-7-10; 8:45 am]

BILLING CODE P